DEPARTMENT OF LABOR

Employment and Training Administration

[TA-W-52,341]

Firestone Tube Company Russellville, AR; Notice of Termination of Certification

This notice terminates the Certification Regarding Eligibility to Apply for Worker Adjustment Assistance issued by the Department on August 7, 2003, for all workers of Firestone Tube Company located in Russellville, Arkansas. The notice will soon be published in the Federal Register.

The Department, at the request of the State agency, reviewed the certification for workers of Firestone Tube Company, Russellville, Arkansas. Workers of the subject firm produce inner tubes.

The certification review shows that all workers of Firestone Tube Company, Russellville, Arkansas, are covered by an existing certification, TA-W-50,544, issued on July 30, 2003. All workers of the subject firm who became totally or partially separated from employment on or after January 7, 2002, through July 30, 2005, are eligible to apply for adjustment assistance.

Since the workers of Firestone Tube Company, Russellville, Arkansas, are covered by an existing certification, the continuation of this certification would serve no purpose and the certification has been terminated.

Signed in Washington, DC, this 18th day of August, 2003.
Linda G. Poole,
Certifying Officer, Division of Trade Adjustment Assistance.

[FR Doc. 03-26485 Filed 10-20-03; 8:45 am]

BILLING CODE 4510-30-P